NUCLEAR WASTE TECHNICAL REVIEW BOARD

Notice of Meeting

Board Meeting: May 18-19, 2004—Washington, DC: The U.S. Nuclear Waste Technical Review will meet with the DOE and interested parties to discuss the potential for localized corrosion during periods of above boiling temperatures in a repository planned for Yucca Mountain in Nevada.

Pursuant to its authority under section 5051 of Public Law 100-203, Nuclear Waste Policy Amendments Act of 1987, on Tuesday and Wednesday, May 18 and 19, 2004, the U.S. Nuclear Waste Technical Review Board (Board) will hold its spring meeting in Washington, DC. The Board has invited the U.S. Department of Energy (DOE) and several other interested parties—including the Nuclear Regulatory Commission (NRC), the Electric Power Research Institute (EPRI), and the State of Nevada—to present their research and views on the potential for corrosion of waste packages during the “thermal pulse,” the period of approximately 1,000 years after closure when temperatures would be above boiling inside a repository for high-level radioactive waste planned for Yucca Mountain in Nevada. In a letter and a report to the DOE last fall, the Board concluded that, based on analyses of DOE and other data, all the conditions necessary for localized corrosion of waste packages will likely be present in repository tunnels during the thermal pulse.

The Board meeting will be held at the Embassy Suites Hotel; 1250 22nd Street, NW., Washington, DC 20037. The telephone number is 202-857-3388, and the fax number is 202-293-3173. The meeting is open to the public, and opportunities for public comment will be provided. The meeting sessions will begin at 8 a.m. on both days.

Tuesday's session will begin with overviews of the status of program activities related to the Yucca Mountain project and updates on activities related to basic science, seismicity, and transportation of spent nuclear fuel and high-level radioactive waste. On Tuesday afternoon, representatives of the NRC, EPRI, and the State of Nevada will present their views and relevant research on the potential for corrosion on waste packages during the thermal pulse.

Most of the meeting on Wednesday will be devoted to presentations by the DOE and to discussion of DOE views, research, and analyses related to repository tunnel environments and the potential for localized corrosion during the thermal pulse. Meeting participants will have an opportunity to make brief wrap-up comments at the end of the day on Wednesday.

The meeting agenda will include time for public comment before adjournment on both days. Those wanting to speak during the public comment periods are encouraged to sign the “Public Comment Register” at the check-in table. A time limit may have to be set on individual remarks, but written comments of any length may be submitted for the record.

An agenda will be available approximately one week before the meeting. Copies of the agenda can be requested by telephone or obtained from the Board's Web site: www.nwtrb.gov. Beginning on June 21, 2004, transcripts of the meeting will be available on the Board's Web site, via e-mail, on computer disk, and on a library-loan basis in paper format from Davonya Barnes of the Board staff.

A block of rooms has been reserved at the Embassy Suites Hotel. A meeting rate is available for reservations made by April 19, 2004. When making a reservation, please state that you are attending the Nuclear Waste Technical Review Board meeting. For more information, contact the NWTRB; Karyn Severson, External Affairs; 2300 Clarendon Boulevard, Suite 1300; Arlington, VA 22201-3367; (tel) 703-235-4473; (fax) 703-235-4495.

The Board was created by Congress in the Nuclear Waste Policy Amendments Act of 1987. The Board's purpose is to evaluate the technical and scientific validity of activities undertaken by the Secretary of Energy related to managing the disposal of the nation's spent nuclear fuel and high-level radioactive waste. In the same legislation, Congress directed the DOE to characterize the Yucca Mountain site to determine its suitability as the location of a potential repository for the permanent disposal of spent nuclear fuel and high-level radioactive waste.

Dated: April 5, 2004.
William D. Barnard,
Executive Director, Nuclear Waste Technical Review Board.

[FR Doc. 04-8532 Filed 4-14-04; 8:45 am]

BILLING CODE 6820-AM-M